ENVIRONMENTAL PROTECTION AGENCY

[EPA-HQ-OPP-2006-0099; FRL-8090-6]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective February 28, 2007, unless the Agency receives a written withdrawal request on or before February 28, 2007. The Agency will consider a withdrawal request postmarked no later than February 28, 2007.

Users of these products who desire continued use on crops or sites being deleted should contact the applicable registrant on or before February 28, 2007.

ADDRESSES: Submit your withdrawal request, identified by docket identification (ID) number EPA-HQ-OPP-2006-0099, by one of the following methods:

• Mail: Attention: John Jamula, Information Technology and Resources Management Division (7502P), Office of Pesticide Programs, Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPP-2006-0099. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Action is the Agency Taking?

This notice announces receipt by the Agency of applications from registrants to delete uses in certain pesticide registrations. These registrations are listed in Table 1 of this unit by registration number, product name, active ingredient, and specific uses deleted:

Table 1.—Registrations With Requests for Amendments to Delete Uses in Certain Pesticides
EPA Reg. No. | Product Name | Active Ingredient | Delete From Label
000100-00863 | 40WG Turf Fungicide | Cyproconazole | Turf Uses
000100-00864 | Cyproconazole Technical | Cyproconazole | Turf Uses
000264-00458 | MOCAP EC Nematicide-Insecticide | Ethoprop | Bananas/Plantains, cucumbers, pineapples, and Tobacco
000264-00805 | Thiacloprid Technical Insecticide | Thiacloprid | Pome Fruit and Cotton
000264-00806 | Calypso 4 Flowable Insecticide | Thiacloprid | Pome Fruit and Cotton
000264-00807 | Calypso 70 WG Insecticide | Thiacloprid | Pome Fruit and Cotton
034704-00259 | Clean Crop Phorate 20- G | Phorate | Wheat
047870-00001 | Propylene Oxide | Propylene Oxide | Guar (edible) Gums
047870-00002 | Propylene Oxide Technical | Propylene Oxide | Guar (edible) Gums
047870-00003 | Propoxide 892 | Propylene Oxide | Guar (edible) Gums
058266-00002 | Tri-Clor Fumigant | Chloropicrin | Fumigation of Enclosed Spaces
073049-00086 | SBP-1382 Technical with Antioxidant | Resmethrin | Stored Grain
073049-00098 | SBP-1382 Concentrate 12% Formula with Residual Activity | Resmethrin | Stored Grain
073049-00105 | Bioallethrin Technical | Bioallethrin | Drainage Systems, Golf Course Turf, Wide Area Outdoor Treatments, Airports, Uncultivated Agricultural Areas, Boat Hulls, Large Paved Areas, Animal Premises, Perimeters and Foundations of Structures
073049-00125 | Crossfire Technical | d-trans Allethrin | Drainage Systems, Golf Course Turf, Wide Area Outdoor Treatments, Airports, Uncultivated Agricultural Areas, Boat Hulls, Large Paved Areas, Animal Premises, Perimeters and Foundations of Structures
073049-00155 | Esbiol Technical | Bioallethrin | Drainage Systems, Golf Course Turf, Wide Area Outdoor Treatments, Airports, Uncultivated Agricultural Areas, Boat Hulls, Large Paved Areas, Animal Premises, Perimeters and Foundations of Structures
073049-00156 | Crossfire Tech (Esbiothrin Technical) | Esbiothrin | Drainage Systems, Golf Course Turf, Wide Area Outdoor Treatments, Airports, Uncultivated Agricultural Areas, Boat Hulls, Large Paved Areas, Animal Premises, Perimeters and Foundations of Structures
073049-00359 | Bioallethrin for Manufacturing and Formulating Use | Bioallethrin | Drainage Systems, Golf Course Turf, Wide Area Outdoor Treatments, Airports, Uncultivated Agricultural Areas, Boat Hulls, Large Paved Areas, Animal Premises, Perimeters and Foundations of Structures

Users of these products who desire continued use on crops or sites being deleted should contact the applicable registrant before February 28, 2007 to discuss withdrawal of the application for amendment. This 180-day period will also permit interested members of the public to intercede with registrants prior to the Agency's approval of the deletion.

Table 2 of this unit includes the names and addresses of record for all registrants of the products listed in Table 1 of this unit, in sequence by EPA company number.

Table 2.—Registrants Requesting Amendments to Delete Uses in Certain Pesticide Products
EPA Company no. | Company Name and Address
000100 | Syngenta Crop Protection, Inc., P.O. Box 18300, Greensboro, NC 27419
000264 | Bayer Cropscience, LP, 2T W. Alexander Drive, Research Triangle Park, NC 27709
034704 | Loveland Products, Inc., P.O. Box 1286, Greeley, CO 80632
047870 | Aberco, Inc., 9430 Lanham Severn Rd., Seabrook, MD 20706.
058266 | Shadow Mountain Products Corporation, P.O. Box 1327, Hollister, CA 95024
073049 | Valent Biosciences Corporation, 870 Technology Way, Suite 100, Libertyville, IL 60048

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to John Jamula using the methods in ADDRESSES. The Agency will consider written withdrawal requests postmarked no later than February 28, 2007.

V. Provisions for Disposition of Existing Stocks

The Agency has authorized the registrants to sell or distribute product under the previously approved labeling for a period of 18 months after approval of the revision, unless other restrictions have been imposed, as in special review actions.

List of Subjects

Environmental protection, Pesticides and pests.

Dated: August 24, 2006.
Robert Forrest,
Acting Director, Information Technology and Resources Management Division, Office of Pesticide Programs.

[FR Doc. 06-7312 Filed 8-31-06; 8:45 am]

BILLING CODE 6560-50-S